DEPARTMENT OF TRANSPORTATION

Federal Railroad Administration

49 CFR Part 234

[Docket No. FRA-2011-0007, Notice No. 3]

RIN 2130-AC26

National Highway-Rail Crossing Inventory Reporting Requirements

AGENCY: Federal Railroad Administration (FRA), Department of Transportation (DOT).

ACTION: Announcement of public hearing and extension of comment period.

SUMMARY: By notice of proposed rulemaking (NPRM) published on October 18, 2012, FRA proposed a rule that would require railroads to submit information to the U.S. DOT National Highway-Rail Crossing Inventory (Crossing Inventory) about highway-rail and pathway crossings over which they operate. This document announces a public hearing to provide interested parties an opportunity to comment on the NPRM. This document also extends the NPRM comment period to allow interested parties to submit comments in response to issues raised at the public hearing.

DATES: A public hearing will be held on February 19, 2013 in Washington, DC, and will commence at 10 a.m. The comment period in this proceeding is extended to March 29, 2013.

ADDRESSES: (1) Public Hearing: The public hearing will be held at the Washington Plaza Hotel, 10 Thomas Circle NW., Washington, DC 20005.

(2) Attendance: Any person wishing to participate in the public hearing should notify Michelle Silva in FRA's Office of Chief Counsel by telephone or in writing, by mail or email, at least five business days before the date of the hearing. Ms. Silva's contact information is as follows: FRA, Office of Chief Counsel, Mail Stop 10, 1200 New Jersey Avenue SE., Washington, DC 20590; telephone: 202-493-6030; email: michelle.silva@dot.gov.

For information on facilities or services for persons with disabilities or to request special assistance at the meeting, please contact by telephone or email as soon as possible, Larry Woolverton at 202-493-6212 or larry.woolverton@dot.gov.

FOR FURTHER INFORMATION CONTACT: Ronald Ries, Staff Director, Grade Crossing Safety and Trespass Prevention, Office of Safety Analysis, FRA, 1200 New Jersey Avenue SE., Mail Stop 25, Washington, DC 20590 (telephone: 202-493-6299), ronald.ries@dot.gov; or Kathryn Shelton, Office of Chief Counsel, FRA, 1200 New Jersey Avenue SE., Mail Stop 13, Washington, DC 20590 (telephone: 202-493-6063), kathryn.shelton@dot.gov.

SUPPLEMENTARY INFORMATION: FRA has received written comments from interested parties, including Applied Research Associates, Inc. and Orion's Angels, related to the use of information submitted by railroads to the Crossing Inventory about the highway-rail and pathway crossings over which they operate. While this issue is not specifically addressed in the NPRM, FRA will hold a public hearing to facilitate the exchange of information and concerns regarding FRA's proposed rule.

The public hearing is meant to provide an opportunity for interested parties to articulate the issues and concerns they have with the NPRM and to respond to the specific comments requested therein related to the draft Inventory Form and draft Inventory Guide, so that these issues can be fully addressed in any final rule that is developed. Interested parties are invited to present oral statements and to proffer information and views related to FRA's proposal at the hearing. The hearing will be informal and will be conducted by a representative designated by FRA in accordance with FRA's Rules of Practice (49 CFR 211.25). The hearing will be a non-adversarial proceeding; therefore, there will be no cross examination of persons presenting statements or proffering evidence. An FRA representative will make an opening statement outlining the scope of the hearing. After all initial statements by those wishing to comment have been completed; those persons wishing to make a brief rebuttal will be afforded an opportunity to do so in the same order in which the initial statements were made. Additional procedures, as necessary for the conduct of the hearing, will be announced at the hearing. A transcript of the discussions will be made a part of the public docket in this proceeding.

Public Participation Procedures

Any person wishing to participate in the public hearing should notify FRA by telephone or in writing, by mail or email, at the addresses provided in the Attendance section of this notice at least five business days prior to the date of the hearing. The notification should identify the party the person represents, and the particular subject(s) the person plans to address. The notification should also provide the participant's mailing address, email address (if applicable), and other contact information. FRA reserves the right to limit the duration of presentations, if necessary, to provide all participants the opportunity to speak.

Extension of Comment Period

To accommodate the public hearing and to provide interested parties the opportunity to submit comments in response to views or information provided at the public hearing, FRA is extending the comment period in this proceeding to March 29, 2013.

Follow-Up to December 13, 2012 Technical Symposium

In an effort to facilitate discussion on technical issues associated with the electronic submission of data to the Crossing Inventory, FRA hosted a technical symposium on December 13, 2012. See 77 FR 68722 (Nov. 16, 2012). A transcript of the symposium is available in the public docket. As a result of discussions at that technical symposium, FRA intends to host a series of follow-up technical meetings to further discuss with all interested parties technical issues and concerns associated with electronic submission of data to the Crossing Inventory. The date, time, and location of these technical meetings will be announced in notices posted in the public docket of this rulemaking proceeding. FRA will also notify via email those individuals who participated in the December 13, 2012 technical symposium and provided their email addresses to FRA. Any person wishing to participate in these technical meetings, who has not already expressed an interest and provided an email address to FRA, should notify Ms. Michelle Silva of his or her interest by telephone or in writing (by email) at the address provided in the Attendance section of this notice. Note, however, that these technical meetings are intended to allow for the free flow of technical data and information between all interested parties. Any individual's or organization's involvement in any of these technical meetings will not be construed as official comments to the NPRM. Any person wishing to comment on the NPRM must present his or her comments at the February 19, 2013 public hearing or submit such comments in writing to the docket as instructed in this document. Although the proceedings of these additional technical meetings will not be transcribed, minutes of the meetings will be kept by FRA personnel and placed in the underlying rulemaking docket (docket no. FRA-2011-0007).

Issued in Washington, DC, on January 17, 2013.
Jo Strang,
Associate Administrator for Railroad Safety/Chief Safety Officer.

[FR Doc. 2013-01397 Filed 1-23-13; 8:45 am]

BILLING CODE 4910-06-P